DEPARTMENT OF ENERGY

Federal Energy Regulatory Commission

[Project No. 2183-035]

Grand River Dam Authority; Notice of Application Accepted for Filing and Soliciting Motions To Intervene and Protests

March 3, 2004.

Take notice that the following hydroelectric application has been filed with the Commission and is available for public inspection.

a. Type of Application: New Major License.

b. Project No.: P-2183-035.

c. Date filed: June 2, 2003.

d. Applicant: Grand River Dam Authority (GRDA).

e. Name of Project: Markham Ferry Hydroelectric Project.

f. Location: On the Grand (Neosho) River, in Mayes County, Oklahoma. This project would not use federal lands.

g. Filed Pursuant to: Federal Power Act 16 U.S.C. 791(a)-825(r).

h. Applicant Contact: Mr. Robert W. Sullivan, Assistant General Manager, Risk Management & Regulatory Compliance, GRDA, P.O. Box 409, Vinita, Oklahoma 74301 (918)-256-5545.

i. FERC Contact: John Ramer, john.ramer@ferc.gov (202) 502-8969.

j. Deadline for filing motions to intervene and protests: 60 days from the issuance date of this notice.

All documents (original and eight copies) should be filed with: Magalie R. Salas, Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link. The Commission encourages electronic filings.

k. This application has been accepted, but is not ready for environmental analysis at this time.

l. Project Description: The Markham Ferry Hydroelectric Project consists of the following existing facilities: (1) The 3,744-foot-long by 90-foot-high Robert S. Kerr dam, which includes an 824-foot-long gated spillway, topped with 17, 40-foot-long by 27-foot-high, steel Taintor gates and two 80-ton capacity traveling gate hoists; (2) the 15-mile-long Lake Hudson, which has a surface area of 10,900 acres, 200,300 acre-feet of operating storage, and 444,500 acre-feet total of flood storage capacity; (3) the 6,200-foot-long by 45-foot-high Salina Dike; (4) a concrete powerhouse containing four Kaplan turbines with a total maximum hydraulic capacity of 28,000 cubic feet per second (cfs) and four generating units with a total installed generating capacity of 108,000 kilowatts (kW), and producing an average of 257,107,000 kilowatt hours (kWh) annually; (5) one unused 110-kilovolt (kV) transmission line; and (6) appurtenant facilities. The dam and existing project facilities are owned by GRDA.

m. A copy of the application is on file with the Commission and is available for public inspection. This filing may also be viewed on the Web at http://www.ferc.gov using the “eLibrary” link—select “Docket #” and follow the instructions. For assistance, please contact FERC Online Support at FERCOnlineSupport@ferc.gov or toll free at (866) 208-3676 or for TTY, contact (202) 502-8659. A copy is also available for inspection and reproduction at the address in item h above.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The Commission staff proposes to issue one Environmental Assessment (EA) rather than issuing a draft and final EA. Staff intends to allow 30 days for entities to comment on the EA, and will take into consideration all comments received on the EA before final action is taken on the license application. The application will be processed according to the following schedule, but revisions to the schedule may be made as appropriate:

Action | Date
Issue Scoping Document | April 2004.
Notice Application Ready for Environmental Assessment | March 2005.
Notice Availability of EA | September 2005.
Ready for Commission Decision on Application | December 2005.

Final amendments to the application must be filed with the Commission no later than 30 days from the issuance date of this notice.

Magalie R. Salas,
Secretary.

[FR Doc. E4-491 Filed 3-8-04; 8:45 am]

BILLING CODE 6717-01-P